DEPARTMENT OF THE TREASURY

Internal Revenue Service

Taxpayer Advocacy Panel Meeting Cancellation

AGENCY: Internal Revenue Service (IRS), Treasury.

ACTION: Notice of Meeting Cancellation.

SUMMARY: Notice is hereby given of the cancellation of the open meeting of the Taxpayer Advocacy Panel scheduled for Tuesday, December 6, 2011, and Wednesday, December 7, 2011, at the Capital Hilton Hotel in Washington, DC, which was originally published in the Federal Register on November 9, 2011, (Volume 76, Number 217, Page 69799).

The meeting is cancelled due to budgetary constraints.

FOR FURTHER INFORMATION CONTACT: Susan Gilbert at 1-(888) 912-1227 or (515) 564-6638.

Dated: November 30, 2011.
Shawn Collins,
Director, Taxpayer Advocacy Panel.

[FR Doc. 2011-31180 Filed 12-2-11; 8:45 am]

BILLING CODE 4830-01-P